DEPARTMENT OF HEALTH AND HUMAN SERVICES

Centers for Disease Control and Prevention

Disease, Disability, and Injury Prevention and Control Special Emphasis Panel: Occupational Safety and Health Research, Collaborative Program for the Identification and Prevention of Work-related Musculoskeletal Disorders, Request for Application OH-02-010

In accordance with section 10(a)(2) of the Federal Advisory Committee Act (Pub. L. 92-463), the Centers for Disease Control and Prevention (CDC) announces the following meeting:

Name: Disease, Disability, and Injury Prevention and Control Special Emphasis Panel: Occupational Safety and Health Research, Collaborative Program for the Identification and Prevention of Work-related Musculoskeletal Disorders, RFA OH-02-010.

Times and Dates: 8 a.m.-8:30 a.m., August 20, 2002 (Open) 8:30 p.m.-5 p.m., August 20, 2002 (Closed)

Place: Harbor Court Hotel, 550 Light Street, Baltimore, MD 21202, 410/234-0550

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to RFA OH-02-010.

Contact Person for More Information: Laurie Piacitelli, Scientific Review Administrator, Office of Extramural Programs, Office of the Director, National Institute for Occupational Safety and Health, CDC, Cincinnati, OH, 513/841-4567.

The Director, Management Analysis and Services Office has been delegated the authority to sign Federal Register notices pertaining to announcements of meetings and other committee management activities, for both the Centers for Disease Control and Prevention and the Agency for Toxic Substances and Disease Registry.

Dated: July 25, 2002.
John Burckhardt,
Acting Director, Management Analysis and Services Office, Centers for Disease Control and Prevention (CDC).

[FR Doc. 02-19399 Filed 7-31-02; 8:45 am]

BILLING CODE 4163-19-P